DEPARTMENT OF ENERGY

Federal Energy Regulatory Commission

[Project No. 12646-001—Oklahoma]

City of Broken Bow, OK; Notice of Availability of Environmental Assessment

September 10, 2008.

In accordance with the National Environmental Policy Act of 1969 and the Federal Energy Regulatory Commission's (Commission or FERC) regulations, 18 CFR 380 (Order No. 486, 52 FR 47897), the Office of Energy Projects has reviewed the City of Broken Bow, Oklahoma's application for license for the proposed Pine Creek Lake Dam Hydropower Project (or Project), located on Pine Creek dam in McCurtain County, Oklahoma, and has prepared an environmental assessment (EA) for the Project. The proposed Project would occupy a total of 10.12 acres of federal lands administered by the U.S. Army Corps of Engineers.

The EA contains Commission staff's analysis of the potential future environmental effects of the Project. Staff has concluded that licensing the Project, with appropriate environmental protective measures, would not constitute a major federal action that would significantly affect the quality of the human environment.

A copy of the EA is available for review at the Commission in the Public Reference Room or may be viewed on the Commission's Web site at http://www.ferc.gov, using the “eLibrary” link. Enter the docket number excluding the last three digits in the docket number field to access the document. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

For further information, contact Allyson Conner by telephone at (202) 502-6082 or by e-mail at allyson.conner@ferc.gov.

Kimberly D. Bose,
Secretary.

[FR Doc. E8-21584 Filed 9-15-08; 8:45 am]

BILLING CODE 6717-01-P